DEPARTMENT OF COMMERCE

National Telecommunications and Information Administration

[Docket No. 000410097-3067-08] [RIN 0660-ZA-11]

Public Telecommunications Facilities Program: Notice of Funds Available

AGENCY: National Telecommunications and Information Administration (NTIA), Commerce.

ACTION: Notice of availability of funds.

SUMMARY: On October 17, 2002, the National Telecommunications and Information Administration (NTIA) announced the Notice of Closing Date and Solicitation of Television Applications for the Public Telecommunications Facilities Program (PTFP). On March 5, 2003, the NTIA announced the Notice of Closing Date and Solicitation of Radio and Nonbroadcast Applications for the PTFP. On February 20, 2003, legislation appropriating FY 2003 funds for the PTFP was completed. NTIA is now publishing this Notice of Availability of Funds to announce the funds available for fiscal year 2003 PTFP grants.

ADDRESS: To obtain an application package, submit completed applications, or send any other correspondence, write to: NTIA/PTFP, Room H-4625, U.S. Department of Commerce, 1401 Constitution Avenue, NW., Washington, DC 20230.

FOR FURTHER INFORMATION CONTACT: William Cooperman, Director, Public Broadcasting Division, telephone: (202) 482-5802; fax: (202) 482-2156. Materials needed to complete an application can be obtained electronically via PTFP's Web site at http://www.ntia.doc.gov/ptfp.

SUPPLEMENTARY INFORMATION:

Authority

The Consolidated Appropriations Resolution, 2003, Public Law 108-7.

Funding Availability

On October 17, 2002, the National Telecommunications and Information Administration (NTIA) announced the Notice of Closing Date and Solicitation of Television Applications for the Public Telecommunications Facilities Program (PTFP) (67 FR 64297). On March 5, 2003, the NTIA announced the Notice of Closing Date and Solicitation of Radio and Nonbroadcast Applications for the PTFP (68 FR 10610). The National Telecommunications and Information Administration (NTIA), U.S. Department of Commerce announces that approximately $21 million is available for award to applicants submitting applications in response to the Notices of Closing Date published October 17, 2002 and March 5, 2003. Pursuant to Pub. L. 108-7, the Consolidated Appropriations Resolution, 2003, the Congress appropriated $41.1 million for Public Telecommunications Facilities Program grants. NTIA has allocated approximately $20 million from the $41.1 million for funding additional phases of multi-year projects initially funded in FY 2000, FY 2001 and FY 2002.

Dr. Bernadette McGuire-Rivera,
Associate Administrator, Office of Telecommunications and Information Applications.

[FR Doc. 03-7522 Filed 3-27-03; 8:45 am]

BILLING CODE 3510-60-P